FEDERAL DEPOSIT INSURANCE CORPORATION

Agency Information Collection Activities: Proposed Collection Renewals; Comment Request

AGENCY: Federal Deposit Insurance Corporation (FDIC).

ACTION: Notice and request for comment.

SUMMARY: The FDIC, as part of its continuing effort to reduce paperwork and respondent burden, invites the general public and other federal agencies to take this opportunity to comment on continuing information collections, as required by the Paperwork Reduction Act of 1995 (44 U.S.C. chapter 35). Currently, the FDIC is soliciting comments concerning the following continuing collections of information titled:

1. Application Pursuant to Section 19 of the Federal Deposit Insurance Act (3064-0018);

2. Home Mortgage Disclosure Act (HMDA) (3064-0046);

3. Public Disclosure by Banks (3064-0090);

4. Notice Required of Government Securities Dealers or Brokers (Insured State Nonmember Banks) (3064-0093);

5. Procedures for Monitoring Bank Protection Act Compliance (3064-0095);

6. Activities and Investments of Insured State Banks (3064-0111);

7. Foreign Banks (3064-0114);

8. Certification of Eligibility Under the Affordable Housing Program (3064-0116);

9. Notice Regarding Unauthorized Access to Customer Information (3064-0145);

10. Mutual-to-Stock Conversions of State Savings Banks (3064-0117);

11. Privacy of Consumer Financial Information (3064-0136); and

12. Applicant Background Questionnaire (3064-0138).

DATES: Comments must be submitted on or before July 25, 2006.

ADDRESSES: Interested parties are invited to submit written comments by any of the following methods. All comments should refer to the name and number of the collection:

• http://www.FDIC.gov/regulations/laws/federalnotices/propose.html.

• E-mail: comments@fdic.gov. Include the name and number of the collection in the subject line of the message.

• Mail: Gary A. Kuiper (202.898.3877), Counsel, Federal Deposit Insurance Corporation, 550 17th Street, NW., Washington, DC 20429.

• Hand Delivery: Comments may be hand-delivered to the guard station at the rear of the 550 17th Street Building (located on F Street), on business days between 7 a.m. and 5 p.m.

A copy of the comments may also be submitted to the OMB Desk Officer for the FDIC, Office of Information and Regulatory Affairs, Office of Management and Budget, New Executive Office Building, Washington, DC 20503.

FOR FURTHER INFORMATION CONTACT: Gary A. Kuiper, at the address identified above, for collections numbered 1-9; Steve Hanft, at the address identified above, for collections numbered 10-12.

SUPPLEMENTARY INFORMATION: Proposal to renew the following currently approved collections of information:

1. Title: Application Pursuant to Section 19 of the Federal Deposit Insurance Act.

OMB Number: 3064-0018.

Form Number: FDIC 6710/07.

Frequency of Response: On occasion.

Affected Public: Insured depository institutions.

Estimated Number of Respondents: 14.

Estimated Time per Response: 16 hours.

Total Annual Burden: 224 hours.

General Description of Collection: Section 19 of the Federal Deposit Insurance Act (12 U.S.C. Section 1829) requires the FDIC's consent prior to any participation in the affairs of an insured depository institution by a person who has been convicted of crimes involving dishonesty or breach of trust. To obtain that consent, an insured depository institution must submit an application to the FDIC for approval on Form FDIC 6710/07.

2. Title: Home Mortgage Disclosure Act (HMDA).

OMB Number: 3064-0046.

Form Number: None.

Frequency of Response: On occasion.

Affected Public: Insured state nonmember banks.

Estimated Number of Responses: 1,890,384.

Estimated Time per Response: 5 minutes.

Total Annual Burden: 157,532 hours.

General Description of Collection: To permit the FDIC to detect discrimination in residential mortgage lending, certain insured state nonmember banks are required by FDIC regulation 12 CFR part 338 to maintain various data on home loan applicants.

3. Title: Public Disclosure by Banks.

OMB Number: 3064-0090.

Form Number: None.

Frequency of Response: On occasion.

Affected Public: Insured state nonmember banks.

Estimated Number of Respondents: 5,500.

Estimated Time per Response: 0.5 hours.

Total Annual Burden: 2,750 hours.

General Description of Collection: 12 CFR part 350 requires a bank to notify the general public, and in some instances shareholders, that financial disclosure statements are available on request. Required disclosures consist of financial reports for the current and preceding year, which can be photocopied directly from the year-end call reports. Also, on a case-by-case basis, the FDIC may require that descriptions of enforcement actions be included in disclosure statements. The regulation allows, but does not require, the inclusion of management discussions and analysis.

4. Title: Notices Required of Government Securities Dealers or Brokers (Insured State Nonmember Banks).

OMB Number: 3064-0093.

Form Number: G-FIN; G-FINW; G-FIN4; & G-FIN5.

Frequency of Response: On occasion.

Affected Public: Insured state nonmember banks acting as government securities brokers and dealers.

Estimated Number of Respondents: 180.

Estimated Time per Response: 1 hour.

Total Annual Burden: 180 hours.

General Description of Collection: The Government Securities Act of 1986 requires all financial institutions acting as government securities brokers and dealers to notify their federal regulatory agencies of their broker-dealer activities, unless exempted from the notice requirement by Treasury Department regulation.

5. Title: Procedures for Monitoring Bank Protection Act Compliance.

OMB Number: 3064-0095.

Form Number: None.

Frequency of Response: On occasion.

Affected Public: Insured state nonmember banks.

Estimated Number of Respondents: 5,250.

Estimated Time per Response: 0.5 hours.

Total Annual Burden: 2,625 hours.

General Description of Collection: The Bank Protection Act of 1968 (12 U.S.C. 1881-1884) requires each Federal supervisory agency to promulgate rules establishing minimum standards for security devices and procedures to discourage financial crime and to assist in the identification of persons who commit such crimes. To avoid the necessity of constantly updating a technology-based regulation, the FDIC takes a flexible approach to implementing this statute. It requires each insured nonmember bank to designate a security officer who will administer a written security program. The security program shall: (1) Establish procedures for opening and closing for business and for safekeeping valuables; (2) establish procedures that will assist in identifying persons committing crimes against the bank; (3) provide for initial and periodic training of employees in their responsibilities under the security program; and (4) provide for selecting, testing, operating and maintaining security devices as prescribed in the regulation. In addition, the FDIC requires the security officer to report at least annually to the bank's board of directors on the effectiveness of the security program

6. Title: Activities and Investments of Insured State Banks.

OMB Number: 3064-0111.

Form Number: None.

Frequency of Response: On occasion.

Affected Public: Insured state nonmember banks.

Estimated Number of Respondents: 20.

Estimated Time per Response: 8 hours.

Total Annual Burden: 160 hours.

General Description of Collection: With certain exceptions, section 24 of the FDI Act (12 U.S.C. 1831a) limits the direct equity investments of state chartered banks to equity investments that are permissible for national banks. In addition, the statute prohibits an insured state bank from directly engaging as principal in any activity that is not permissible for a national bank or indirectly through a subsidiary in an activity that is not permissible for a subsidiary of a national bank unless the bank meets it minimum capital requirements and the FDIC determines that the activity does not pose a significant risk to the deposit insurance fund. The FDIC can make such a determination for exception by regulation or by an order. 12 CFR part 362 is the FDIC's implementing regulation for Section 24. It details the activities that insured state banks or their subsidiaries may engage in, under certain criteria and conditions, and identifies the information that banks must furnish to the FDIC in order to obtain the FDIC's approval or nonobjection.

7. Title: Foreign Banks.

OMB Number: 3064-0114.

Form Number: None.

Frequency of Response: On occasion.

Number of Responses per Respondent: Varies with circumstances.

Affected Public: Certain U.S. branches of foreign banks.

Estimated Number of Respondents: 12.

Estimated Time per Response: Ranges from ¼ hour to 10 hours.

Total Annual Burden: 1,572 hours.

General Description of Collection: The collection of information consists of (a) applications to operate as a noninsured state-licensed branch of a foreign bank; (b) applications from an insured state licensed branch of a foreign bank to conduct activities which are not permissible for a federally-licensed branch; (c) internal recordkeeping by insured branches of foreign banks; and (d) reporting requirements relating to an insured branch(s pledge of assets to the FDIC.

8. Title: Certification of Eligibility Under the Affordable Housing Program.

OMB Number: 3064-0116.

Form Number: None.

Frequency of Response: On occasion.

Affected Public: Individuals wishing to purchase affordable housing properties from the FDIC.

Estimated Number of Respondents: 12.

Estimated Time per Response: 1 hour.

Total Annual Burden: 12 hours.

General Description of Collection: This collection of information certifies income eligibility under the affordable housing program. The certification assists the FDIC in determining an individual(s eligibility for purchasing affordable housing properties from the FDIC.

9. Title: Notice Regarding Unauthorized Access to Customer Information.

OMB Number: 3064-0145.

Form Number: None.

Frequency of Response: On occasion.

Affected Public: Insured state nonmember banks.

Number of Respondents: 5,500.

Estimated Time per Response:

Developing notices: 20 hrs. × 5,500 = 110,000 hours.

Notifying customers: 24 hrs. × 110 = 2,640 hours.

Total Estimated Annual Burden: 112,640 hours.

General Description of Collection: This collection reflects the FDIC's expectations regarding a response program that financial institutions should develop to address unauthorized access to or use of customer information that could result in substantial harm or inconvenience to a customer. The information collections require financial institutions to: (1) Develop notices to customers; and (2) in certain circumstances, determine which customers should receive the notices and send the notices to customers.

10. Title: Mutual-to-Stock Conversions of State Savings Banks.

OMB Number: 3064-0117.

Form Number: None.

Frequency of Response: On occasion.

Affected Public: Insured state chartered savings banks that are not members of the Federal Reserve System proposing to convert from mutual to stock form of ownership.

Estimated Number of Respondents: 10.

Estimated Time per Response: 50 hours.

Total Annual Burden: 500 hours.

General Description of Collection: 12 CFR 303.161 and 333.4 require state savings banks that are not members of the Federal Reserve System to file with the FDIC a notice of intent to convert to stock form and provide copies of documents filed with State and Federal banking and or securities regulators in connection with the proposed conversion.

11. Title: Privacy of Consumer Financial Information.

OMB Number: 3064-0136.

Form Number: None.

Frequency of Response: On occasion.

Affected Public: Insured state nonmember banks.

Estimated annual number of institution respondents: Initial notice, 208; annual notice and change in terms, 5,138; opt-out notice, 873.

Estimated average time per response per institution: Initial notice, 80 hours; annual notice and change in terms, 8 hours; opt-out notice, 8 hours.

Subtotal, annual burden hours for institutions: 64,728 hours.

General Description of Collection: The elements of this information collection are required under section 504 of the Gramm-Leach-Bliley Act, Public Law 106-102. The collection mandates notice requirements and restrictions on a financial institution's ability to disclose nonpublic personal information about consumers to nonaffiliated third parties.

12. Title: Applicant Background Questionnaire.

OMB Number: 3064-0138.

Form Number: FDIC 2100/14.

Frequency of Response: On occasion.

Affected Public: FDIC job applicants who are not current FDIC employees.

Estimated Number of Respondents: 10,000.

Estimated Time per Response: 3 minutes.

Total Annual Burden: 500 hours.

General Description of Collection: The FDIC Applicant Background Questionnaire is completed voluntarily by FDIC job applicants who are not current FDIC employees. Responses to questions on the survey provide information on gender, age, disability, race/national origin, and to the applicant's source of vacancy announcement information. Data is used by the Office of Diversity and Economic Opportunity and the Personnel Services Branch to evaluate the effectiveness of various recruitment methods used by the FDIC to ensure that the agency meets workforce diversity objectives.

Request for Comment

Comments are invited on: (a) Whether these collections of information are necessary for the proper performance of the FDIC's functions, including whether the information has practical utility; (b) the accuracy of the estimates of the burden of the information collections, including the validity of the methodology and assumptions used; (c) ways to enhance the quality, utility, and clarity of the information to be collected; and (d) ways to minimize the burden of the information collections on respondents, including through the use of automated collection techniques or other forms of information technology.

At the end of the comment period, the comments and recommendations received will be analyzed to determine the extent to which the collections should be modified prior to submission to OMB for review and approval. Comments submitted in response to this notice also will be summarized or included in the FDIC's requests to OMB for renewal of these collections. All comments will become a matter of public record.

Dated at Washington, DC, this 23rd day of May, 2006.
Federal Deposit Insurance Corporation.
Robert E. Feldman,
Executive Secretary.

[FR Doc. E6-8182 Filed 5-25-06; 8:45 am]

BILLING CODE 6714-01-P